NATIONAL FOUNDATION ON THE ARTS AND THE HUMANITIES

President's Committee on the Arts and the Humanities: Meeting #69

AGENCY: National Endowment for the Arts, National Foundation on the Arts and Humanities.

ACTION: Notice of meeting.

SUMMARY: Pursuant to section 10(a)(2) of the Federal Advisory Committee Act (Pub. L. 92-463), as amended, notice is hereby given that a meeting of the President's Committee on the Arts and the Humanities (PCAH) will be held in the Crystal Room, The Willard Intercontinental, 1401 Pennsylvania Avenue NW., Washington, DC 20004. Ending time is approximate.

DATES: November 21, 2013 from 3:00 p.m. to 5:30 p.m.

FOR FURTHER INFORMATION CONTACT: Lindsey Clark of the President's Committee at (202) 682-5409 or lclark@pcah.gov.

SUPPLEMENTARY INFORMATION: The meeting, on Thursday, November 21st, will begin with welcome, introductions, and announcements. Updates and discussion on recent programs and activities will follow. The meeting also will include a review of PCAH ongoing programming for arts education, youth arts and humanities learning, preservation and conservation, special events, and international cultural projects. The meeting will adjourn after closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend are advised to contact Lindsey Clark of the President's Committee seven (7) days in advance of the meeting at (202) 682-5409 or write to the Committee at 1100 Pennsylvania Avenue NW., Suite 526, Washington, DC 20506. Further information with reference to this meeting can also be obtained from Ms. Clark at lclark@pcah.gov.

If you need special accommodations due to a disability, please contact the Office of AccessAbility, National Endowment for the Arts, 1100 Pennsylvania Avenue NW., Suite 724, Washington, DC 20506, (202) 682-5532, TDY-TDD (202) 682-5496, at least seven (7) days prior to the meeting.

Dated: November 4, 2013.
Kathy Plowitz-Worden,
Panel Coordinator, Panel Operations, National Endowment for the Arts.

[FR Doc. 2013-26779 Filed 11-7-13; 8:45 am]

BILLING CODE 7537-01-P